DEPARTMENT OF COMMERCE

National Oceanic and Atmospheric Administration

RIN 0648-XF532

Northwest Atlantic Fisheries Organization Consultative Committee Nominations and Meeting Announcement

AGENCY: National Marine Fisheries Service (NMFS), National Oceanic and Atmospheric Administration (NOAA), Commerce.

ACTION: Notice calling for nominations and announcing meeting.

SUMMARY: NOAA is soliciting nominations for individuals to serve as members of the Northwest Atlantic Fisheries Organization (NAFO) Consultative Committee. This action is necessary to ensure that the interests of U.S. stakeholders in the fisheries of the Northwest Atlantic Ocean are adequately represented in NAFO. NOAA is also announcing a meeting of the NAFO Consultative Committee.

DATES: The NAFO Consultative Committee Meeting will be held on August 30, 2017.

ADDRESSES: Nominations for NAFO Consultative Committee members should be made in writing to Mr. Patrick E. Moran, Office of International Affairs, National Marine Fisheries Service, at 1315 East-West Highway, Silver Spring, MD 20910. Nominations and questions about the NAFO Consultative Committee meeting may also be sent via email (Pat.Moran@noaa.gov).

FOR FURTHER INFORMATION CONTACT: Mr. Patrick E. Moran, (301) 427-8370.

SUPPLEMENTARY INFORMATION:

Background

NAFO is a regional fisheries management organization that coordinates scientific study and cooperative management of the fisheries resources of the Northwest Atlantic Ocean, excluding salmon, tunas/marlins, whales and sedentary species (e.g., shellfish). NAFO was established in 1979 by the Convention on Future Multilateral Cooperation in the Northwest Atlantic Fisheries. The United States acceded to the Convention in 1995, and has participated actively in NAFO since that time. In 2005, NAFO launched a reform effort to amend the Convention in order bring the Organization more in line with the principles of modern fisheries management. As a result of these efforts, the Amendment to the Convention on Future Multilateral Cooperation in the Northwest Atlantic Fisheries entered into force in May 2017. NAFO currently has 12 Contracting Parties, including Canada, Cuba, Denmark (in respect of Faroe Islands and Greenland), European Union, France (in respect of St. Pierre and Miquelon), Iceland, Japan, Norway, Republic of Korea, Russian Federation, Ukraine and the United States.

As outlined in 16 U.S.C. 5607 provides that the Secretaries of Commerce and State shall jointly establish a NAFO Consultative Committee (NCC) to advise the Secretaries on issues related to the NAFO Convention. Membership in the NCC is open to representatives from the New England and Mid-Atlantic Fishery Management Councils, the States represented on those Councils, the Atlantic States Marine Fisheries Commission, the fishing industry, the seafood processing industry, and others knowledgeable and experienced in the conservation and management of fisheries in the Northwest Atlantic Ocean. Members shall be appointed to a 2-year term and are eligible for reappointment. The NCC is exempted from the Federal Advisory Committee Act. NCC members are invited to attend all non-executive meetings of the U.S. Commissioners and at such meetings are given an opportunity to examine and to be heard on all proposed programs of study and investigation, reports, recommendations, and regulations of issues relating to the Act and proceedings of NAFO. In addition, NCC members may attend all public meetings of the NAFO Commission and any other meetings to which they are invited.

Nominations

Nominations to the NCC will be accepted at any time and should document an individual's qualifications based on those outlined in 16 U.S.C. 5607 (see above). Résumés and/or curriculum vitae will be requested from nominees. Self-nominations are acceptable, and current and former NCC members are eligible for reappointment. Nominations will be evaluated by officials in the Department of Commerce who are familiar with the duties and responsibilities of NCC membership. All nominees will be notified of their status and any need for further information once the nomination process is complete.

Meeting

A meeting of the NCC will be held 1:30-3 p.m. on August 30, 2017, at the NMFS Greater Atlantic Regional Fisheries Office at 55 Great Republic Drive, Gloucester, MA 01930. All members of the public with an interest in the fisheries of the Northwest Atlantic Ocean are welcome to attend.

Dated: July 27, 2017.
Steven Wilson,
Acting Director, Office of International Affairs, National Marine Fisheries Service.

[FR Doc. 2017-16245 Filed 8-1-17; 8:45 am]

BILLING CODE 3510-22-P